NUCLEAR REGULATORY COMMISSION

Final Regulatory Guide: Issuance, Availability

The U.S. Nuclear Regulatory Commission (NRC) has issued a revision to an existing guide in the agency's Regulatory Guide Series. This series has been developed to describe and make available to the public such information as methods that are acceptable to the NRC staff for implementing specific parts of the NRC's regulations, techniques that the staff uses in evaluating specific problems or postulated accidents, and data that the staff needs in its review of applications for permits and licenses.

Revision 5 of Regulatory Guide 1.101, “Emergency Response Planning and Preparedness for Nuclear Power Reactors,” provides guidance to licensees and applicants concerning emergency response planning activities and interactions. This guidance describes a voluntary method that the NRC staff considers acceptable for complying with the NRC's recently amended regulatory requirements in Appendix E to Title 10, Part 50, of the Code of Federal Regulations (10 CFR Part 50), particularly as they relate to exercise requirements for co-located licensees.

The NRC published the substance of this revised guide for public comment on July 24, 2003, in a Federal Register notice (68 FR 43673) concerning proposed amendments to the NRC's emergency planning regulations governing the domestic licensing of production and utilization facilities, as specified in Appendix E to 10 CFR Part 50. Following the closure of the 75-day public comment period on October 7, 2003, the staff resolved all stakeholder comments in the course of preparing the final rule (70 FR 3591, effective April 26, 2005) and Revision 5 of Regulatory Guide 1.101.

The NRC staff encourages and welcomes comments and suggestions in connection with improvements to published regulatory guides, as well as items for inclusion in regulatory guides that are currently being developed. You may submit comments by any of the following methods.

Mail comments to: Rules and Directives Branch, Office of Administration, U.S. Nuclear Regulatory Commission, Washington, DC 20555-0001.

Hand-deliver comments to: Rules and Directives Branch, Office of Administration, U.S. Nuclear Regulatory Commission, 11555 Rockville Pike, Rockville, Maryland 20852, between 7:30 a.m. and 4:15 p.m. on Federal workdays.

Fax comments to: Rules and Directives Branch, Office of Administration, U.S. Nuclear Regulatory Commission at (301) 415-5144.

Requests for technical information about Revision 5 of Regulatory Guide 1.101 may be directed to Daniel M. Barss at (301) 415-2922 or by e-mail to DMB1@nrc.gov.

Regulatory guides are available for inspection or downloading through the NRC's public Web site in the Regulatory Guides document collection of the NRC's Electronic Reading Room at http://www.nrc.gov/reading-rm/doc-collections/. Revision 5 of Regulatory Guide 1.101 is also available electronically through the NRC's Agencywide Documents Access and Management System (ADAMS) at http://www.nrc.gov/reading-rm/adams.html, under Accession No. ML050730286. Note, however, that the NRC has temporarily limited public access to ADAMS so that the agency can complete security reviews of publicly available documents and remove potentially sensitive information. Please check the NRC's Web site for updates concerning the resumption of public access to ADAMS.

In addition, regulatory guides are available for inspection at the NRC's Public Document Room (PDR), which is located at 11555 Rockville Pike, Rockville, Maryland; the PDR's mailing address is USNRC PDR, Washington, DC 20555-0001. The PDR can also be reached by telephone at (301) 415-4737 or (800) 397-4205, by fax at (301) 415-3548, and by e-mail to PDR@nrc.gov. Requests for single copies of draft or final guides (which may be reproduced) or for placement on an automatic distribution list for single copies of future draft guides in specific divisions should be made in writing to the U.S. Nuclear Regulatory Commission, Washington, DC 20555-0001, Attention: Reproduction and Distribution Services Section; by E-mail to DISTRIBUTION@nrc.gov; or by fax to (301) 415-2289. Telephone requests cannot be accommodated.

Regulatory guides are not copyrighted, and Commission approval is not required to reproduce them.

(5 U.S.C. 552(a))

Dated at Rockville, Maryland, this 20th day of June, 2005.
For the U.S. Nuclear Regulatory Commission.
Carl J. Paperiello,
Director, Office of Nuclear Regulatory Research.

[FR Doc. E5-3435 Filed 6-29-05; 8:45 am]

BILLING CODE 7590-01-P